DEPARTMENT OF COMMERCE

National Oceanic and Atmospheric Administration

50 CFR Part 622

[Docket No. 040223065-4065-01; I.D. 020604A]

RIN 0648-AR91

Fisheries of the Caribbean, Gulf of Mexico, and South Atlantic; Shrimp Fishery Off the Southern Atlantic States; Control Date

AGENCY: National Marine Fisheries Service (NMFS), National Oceanic and Atmospheric Administration (NOAA), Commerce.

ACTION: Advance notice of proposed rulemaking; revised control date.

SUMMARY: The South Atlantic Fishery Management Council (Council) is considering whether there is a need to impose additional management measures limiting entry into the commercial penaeid shrimp fishery in the South Atlantic exclusive economic zone (EEZ). In anticipation of such an action, the Council previously established a control date of September 8, 2000. This document is to inform the public that the Council is establishing a revised control date of December 10, 2003. If the Council and NMFS determine that there is a need to impose additional management measures to control participation in the fishery, a rulemaking to do so may be initiated. Should the Council base such rulemaking on this control date, anyone entering the fishery after the control date would not be assured of future access in the fishery.

DATES: Comments must be submitted by April 5, 2004.

ADDRESSES: Comments should be directed to the South Atlantic Fishery Management Council, One Southpark Circle, Suite 306, Charleston, South Carolina 29407-4699; telephone: 843-571-4366; fax: 843-769-4520; email: email@safmc.net.

FOR FURTHER INFORMATION CONTACT: Dr. Steve Branstetter 727-570-5305; email: steve.branstetter@noaa.gov or Ms. Vishwanie Maharaj 843-571-4366; email: vishwanie.maharaj@safmc.net.

SUPPLEMENTARY INFORMATION: The commercial penaeid shrimp fishery in the South Atlantic Region is managed under the Fishery Management Plan for the Shrimp Fishery of the South Atlantic Region (FMP) as prepared by the Council and approved and implemented by NMFS. The FMP is implemented under the authority of the Magnuson-Stevens Fishery Conservation and Management Act by regulations at 50 CFR part 622.

The Council has concerns that increased participation in the South Atlantic commercial penaeid shrimp fishery could result in an excess harvesting capacity for the fishery. The Council previously established a control date of September 8, 2000 (65 FR 54474). At its December 2003 meeting, the Council voted unanimously to establish a revised control date for the commercial penaeid shrimp fishery in the South Atlantic EEZ and requested that NMFS notify the industry by publishing a notice of the control date in the Federal Register. Accordingly, NMFS publishes this notice to notify the industry that December 10, 2003, is the revised control date for the commercial penaeid shrimp fishery in the South Atlantic EEZ. Implementation of any program that limits participation or effort in the penaeid shrimp fishery would require preparation of an FMP amendment followed by Secretary of Commerce (Secretarial) review, approval, and implementation. Secretarial review involves publication of a notice of availability of the FMP amendment and publication of proposed and final rules, with pertinent public comment periods.

Establishment of a control date does not commit the Council or NMFS to any particular management regime or criteria for entry into this fishery. Fishermen are not guaranteed future participation in the fishery regardless of their entry date or intensity of participation in the fishery before or after the control date under consideration. The Council may choose to use a different control date or a management regime that does not make use of such a date or to give variably weighted consideration to fishermen active in the fishery before and after the control date. Other qualifying criteria, such as documentation of landings and sales, may be applied for entry. The Council may also choose to take no further action to control entry or access to the fishery, in which case the control date may be rescinded.

This advanced notice of proposed rulemaking has been determined to be not significant for purposes of Executive Order 12866.

Authority: 16 U.S.C. 1801 et seq.

Dated: February 27, 2004.
William T. Hogarth,
Assistant Administrator for Fisheries, National Marine Fisheries Service.

[FR Doc. 04-4875 Filed 3-3-04; 8:45 am]

BILLING CODE 3510-22-S